DEPARTMENT OF ENERGY

Federal Energy Regulatory Commission

Combined Notice of Filings

Take notice that the Commission has received the following Natural Gas Pipeline Rate and Refund Report filings:

Docket Numbers: RP21-38-000.

Applicants: Northern Border Pipeline Company.

Description: Compliance filing Tariff Waiver Request—Capacity Release.

Filed Date: 10/6/20.

Accession Number: 20201006-5109.

Comments Due: 5 p.m. ET 10/19/20.

Docket Numbers: RP21-39-000.

Applicants: LLOG Exploration & Production Company, L, LLOG Exploration Offshore, L.L.C., Ridgewood Rattlesnake LLC.

Description: Joint Petition For Limited Waiver, et al. of LLOG Exploration & Production Company, LLC, et al. under RP21-39.

Filed Date: 10/6/20.

Accession Number: 20201006-5111.

Comments Due: 5 p.m. ET 10/13/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 7, 2020.
Nathaniel J. Davis, Sr.,
Deputy Secretary.

[FR Doc. 2020-22668 Filed 10-13-20; 8:45 am]

BILLING CODE 6717-01-P